DEPARTMENT OF THE INTERIOR

Bureau of Indian Affairs

[190A2100DD/AAKC001030/A0A501010.999900.253G]

Proclaiming Certain Lands as Reservation for the Shakopee Mdewakanton Sioux Community of Minnesota.

AGENCY: Bureau of Indian Affairs, Interior.

ACTION: Notice.

SUMMARY: This notice informs the public that the Assistant Secretary—Indian Affairs proclaimed approximately 19.96 acres, more or less, an addition to the reservation of the Shakopee Mdewakanton Sioux Community of Minnesota on December 21, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. The land was proclaimed to be part of the Shakopee Mdewakanton Sioux Community of Minnesota Reservation in Scott County, Minnesota.

Shakopee Mdewakanton Sioux Community of Minnesota Reservation, Fifth Principal Meridian, Scott County, Minnesota

Legal descriptions containing 19.96 acres, more or less.

County Road 16 Parcel, 411-T-1021

The North Half of the Northeast Quarter of the Southwest Quarter of Section 15, Township 115 North, Range 22 West of the Fifth Principal Meridian, Scott County, Minnesota, depicted on the ALTA/ACSM Land Title Survey performed by Richard J. Williams, Jr. of Bolton and Menk, Inc., dated April 3, 2006.

Subject to an easement for highway purposes and appurtenances over, under and across the easterly 50 feet thereof.

Containing 19.96 acres, more or less. Tax parcel number: 279150012.

The above described lands contain a total of 19.96 acres, more or less, which are subject to all valid rights, reservations, rights-of-way, and easements of record.

This proclamation does not affect title to the lands described above, nor does it affect any valid existing easements for public roads, highways, public utilities, railroads and pipelines, or any other valid easements or rights-of-way or reservations of record.

Dated: December 21, 2018.
Tara Sweeney,
Assistant Secretary—Indian Affairs.

[FR Doc. 2019-01832 Filed 2-8-19; 8:45 am]

BILLING CODE 4337-15-P